SMALL BUSINESS ADMINISTRATION

13 CFR Ch. I

Semiannual Regulatory Agenda

AGENCY: U.S. Small Business Administration (SBA).

ACTION: Semiannual regulatory agenda.

SUMMARY: This Regulatory Agenda is a semiannual summary of all current and projected rulemakings, existing regulations, and completed actions of the Small Business Administration (SBA). This agenda provides the public with information about SBA's regulatory activity. SBA expects that this information will enable the public to be more aware of, and effectively participate in, the SBA's regulatory activity. SBA invites the public to submit comments on any aspect of this Agenda.

FOR FURTHER INFORMATION CONTACT:

General

Please direct general comments or inquiries to Martin “Sparky” Conrey, Assistant General Counsel for Legislation and Appropriations, U.S. Small Business Administration, 409 Third Street SW., Washington, DC 20416, 202 619-0638, martin.conrey@sba.gov.

Specific

Please direct specific comments and inquiries on individual regulatory activities identified in this agenda to the individual listed in the summary of the regulation as the point of contact for that regulation.

SUPPLEMENTARY INFORMATION: SBA provides this notice under the requirements of the Regulatory Flexibility Act, 5 U.S.C. sections 601 to 612 and Executive Order 12866, “Regulatory Planning and Review,” which require each agency to publish a semiannual agenda of regulations. The regulatory agenda is a summary of all current and projected rulemakings, as well as actions completed since the publication of the last Regulatory Agenda for the agency. SBA's last semiannual regulatory agenda was published on July 7, 2011, at 76 FR 40136. The semiannual agenda of the SBA conforms to the Unified Agenda format developed by the Regulatory Information Service Center.

Beginning with the fall 2007 edition, the Internet became the basic means for disseminating the Unified Agenda. The complete Unified Agenda will be available online at www.reginfo.gov in a format that greatly enhances a user's ability to obtain information about the rules in the agency's Agenda.

The Regulatory Flexibility Act requires federal agencies to publish their regulatory flexibility agendas in the Federal Register. Therefore, SBA's printed agenda entries include regulatory actions that are in the SBA's regulatory flexibility agenda. A regulatory flexibility agenda contains, among other things, “a brief description of the subject area of any rule, which is likely to have a significant economic impact on a substantial number of small entities.” Printing of these entries is limited to fields that contain information required by the Regulatory Flexibility Act's Agenda requirements. Additional information on these entries is available in the Unified Agenda published on the Internet.

Dated: September 9, 2011.
Karen G. Mills,
Administrator.

Small Business Administration—Prerule Stage
Sequence No. | Title | Regulation Identifier No.
450 | Small Business Development Centers (SBDC) Program Revisions | 3245-AE05

Small Business Administration—Proposed Rule Stage
Sequence No. | Title | Regulation Identifier No.
451 | Small Business Technology Transfer (STTR) Policy Directive (Reg Plan Seq No. 148) | 3245-AF45
452 | Small Business Innovation Research (SBIR) Program Policy Directive (Reg Plan Seq No. 149) | 3245-AF84
453 | SBA Express Loan Program; Export Express Program | 3245-AF85
454 | Implementation of Small Business Disaster Response and Loan Improvement Act of 2008: Expedited Disaster Assistance Program | 3245-AF88
455 | Implementation of Small Business Disaster Response and Loan Improvement Act of 2008: Private Loan Disaster Program | 3245-AF99
456 | 504 Regulatory Enhancements | 3245-AG04
457 | Small Business Jobs Act: Small Business Size Standards; Alternative Size Standard for 7(a) and 504 Business Loan Programs | 3245-AG16
458 | Acquisition Process: Task and Delivery Order Contracts, Bundling, Consolidation (Reg Plan Seq No. 150) | 3245-AG20
459 | Small Business Jobs Act: Subcontract Integrity | 3245-AG22
460 | Small Business Jobs Act: Small Business Size and Status Integrity | 3245-AG23
461 | Small Business Jobs Act: Small Business Mentor-Protégé Programs (Reg Plan Seq No. 151) | 3245-AG24
462 | Small Business Size Standards for Utilities Industries | 3245-AG25
463 | Small Business Size Standards; Information | 3245-AG26
464 | Small Business Size Standards; Administrative and Support, Waste Management and Remediation Services Industries | 3245-AG27
465 | Small Business Size Standards: Real Estate, Rental and Leasing Industries | 3245-AG28
466 | Small Business Size Standards: Educational Services Industries | 3245-AG29
467 | Small Business Size Standards: Health Care and Social Assistance Services Industries | 3245-AG30
468 | Small Business Investment Companies—Early Stage SBICs | 3245-AG32
469 | Small Business Size Standards: Arts, Entertainment, and Recreation | 3245-AG36
470 | Small Business Size Standards: Construction | 3245-AG37
References in boldface appear in The Regulatory Plan in part II of this issue of the Federal Register.

Small Business Administration—Final Rule Stage
Sequence No. | Title | Regulation Identifier No.
471 | Lender Oversight Program | 3245-AE14
472 | Small Business Size Standards: Professional, Scientific, and Technical Services | 3245-AG07
473 | Small Business Size Standards: Transportation and Warehousing Industries | 3245-AG08

Small Business Administration—Completed Actions
Sequence No. | Title | Regulation Identifier No.
474 | Implementation of Military Reservist and Veteran Small Business Reauthorization and Opportunity Act of 2008 | 3245-AF87
475 | Interest Rate—Resetting Fixed Interest Rate | 3245-AG03
476 | Small Business Size Standards for Loan, Investment, and Surety Programs | 3245-AG05
477 | Statement of Personal History (Form 912) Modification | 3245-AG11
478 | Small Business Jobs Act: Bundling and Contract Consolidation | 3245-AG21
479 | Small Business Size Standards: Application of Nonmanufacturer Rule to Processors and other Producers | 3245-AG31

SMALL BUSINESS ADMINISTRATION (SBA)

Prerule Stage

450. Small Business Development Centers (SBDC) Program Revisions

Legal Authority: 15 U.S.C. 634(b)(6); 15 U.S.C. 648

Abstract: This rule would update Small Business Development Center (SBDC) program regulations by amending among things, the (1) procedures for approving and funding of SBDCs; (2) approval procedures for travel outside the continental U.S. and U.S. territories; (3) procedures and requirements regarding findings and disputes resulting from financial exams, programmatic reviews, accreditation reviews, and other SBA oversight activities; (4) requirements for new and renewal applications for SBDC awards, including the requirements for electronic submission through the approved electronic Government submission facility; and (5) provisions regarding the collection and use of individual SBDC client data.

Timetable:

Action | Date | FR Cite
ANPRM | 06/00/12 |

Regulatory Flexibility Analysis Required: Yes.

Agency Contact: Jean Z. Smith, Acting Associate Administrator, Office of Small Business Development Centers, Small Business Administration, 409 Third Street SW., Washington, DC 20416, Phone: 202 205-7262, Fax: 202 205-7272, Email: jean.smith@sba.gov.

RIN: 3245-AE05

SMALL BUSINESS ADMINISTRATION (SBA)

Proposed Rule Stage

451. Small Business Technology Transfer (STTR) Policy Directive

Regulatory Plan: This entry is Seq. No. 148 in part II of this issue of the Federal Register.

RIN: 3245-AF45

452. Small Business Innovation Research (SBIR) Program Policy Directive

Regulatory Plan: This entry is Seq. No. 149 in part II of this issue of the Federal Register.

RIN: 3245-AF84

453. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 10/00/12 |

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF85

454. Implementation of Small Business Disaster Response and Loan Improvement Act of 2008: Expedited Disaster Assistance Program

Legal Authority: 15 U.S.C. 636(j)

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 10/00/12 |

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF88

455. Implementation of Small Business Disaster Response and Loan Improvement Act of 2008: Private Loan Disaster Program

Legal Authority: 15 U.S.C. 636

Abstract: This proposed rule would establish and implement a private disaster loan program under which SBA will guarantee loans made by qualified lenders to eligible small businesses and homeowners located in a catastrophic disaster area. Private disaster loans made under this program will have the same terms and conditions as SBA's direct disaster loans. In addition, SBA will guarantee timely payment of principal and interest to the lender. SBA may guarantee up to 85 percent of any loan under this program and the maximum loan amount is $2 million.

Timetable:

Action | Date | FR Cite
NPRM | 10/00/12 |

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF99

456. 504 Regulatory Enhancements

Legal Authority: 15 U.S.C. 695 et seq.

Abstract: SBA proposes to revise the regulations for the Agency's 504 Certified Development Company (CDC) Loan Program in order to (1) simplify processes and reduce the regulatory burdens on program participants while maintaining appropriate controls to mitigate risk; (2) increase opportunities for other nonprofit economic development entities to participate in the program either as independent CDCs or affiliates of CDCs, especially in communities not currently served; (3) expand the area of operations for CDCs from statewide to regional; (4) hold CDC Board of Directors more accountable for the CDCs economic development, financial strength, executive compensation and portfolio performance; (5) clarify current regulations; and (6) update the regulations with statutory requirements.

Timetable:

Action | Date | FR Cite
NPRM | 06/00/12 |

Regulatory Flexibility Analysis Required: Yes.

Agency Contact: Andrew B. McConnell Jr., Chief, 504 Loan Program, Office of Financial Assistance, Small Business Administration, 409 Third Street SW., Washington, DC 20416, Phone: 202 205-7238, Email: andrew.mcconnell@sba.gov.

RIN: 3245-AG04

457. Small Business Jobs Act: Small Business Size Standards; Alternative Size Standard for 7(A) and 504 Business Loan Programs

Legal Authority: Pub. L. 111-240, sec 1116

Abstract: SBA will amend its size eligibility criteria for Business Loans and for development company loans under title V of the Small Business Investment Act (504). For the SBA 7(a) Business Loan Program, the amendments will provide an alternative size standard for loan applicants that do not meet the small business size standards for their industries. For the 504 Program, the amendments will increase the current alternative standard for applicants for 504 loans. The Small Business Jobs Act of 2010 (Jobs Act) established alternative size standards that apply to both of these programs until the SBA's Administrator establishes other alternative size standards. This interim final rule will be effective when published because the alternative size standards that the Jobs Act established were effective September 27, 2010, the date of its enactment. These alternative size standards do not affect other Federal government programs, including Federal procurement.

Timetable:

Action | Date | FR Cite
NPRM | 04/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG16

458. Acquisition Process: Task and Delivery Order Contracts, Bundling, Consolidation

Regulatory Plan: This entry is Seq. No. 150 in part II of this issue of the Federal Register.

RIN: 3245-AG20

459. Small Business Jobs Act: Subcontract Integrity

Legal Authority: Pub. L. 111-240, secs 1321 and 1322, 1334

Abstract: The U.S. Small Business Administration is proposing regulations that address subcontracting compliance and the interrelationship between contracting offices, small business offices and program offices relating to oversight and review activities. The proposed regulation will also address the statutory requirement that a large business prime contractor must represent that it will make good faith efforts to award subcontracts to small businesses at the same percentage as indicated in the subcontracting plan submitted as part of its proposal for a contract and that if the percentage is not met, the large business prime contractor must provide a written justification and explanation to the contracting officer. Finally, the proposed regulation may also address the statutory requirement that a prime contractor must notify the contracting officer in writing if it has paid a reduced price to a subcontractor for goods and services or if the payment to the subcontractor is more than 90 days past due.

Timetable:

Action | Date | FR Cite
NPRM | 10/05/11 | 76 FR 61626
NPRM Comment Period End | 12/05/11 |
Final Action | 06/00/12 |

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG22

460. Small Business Jobs Act: Small Business Size and Status Integrity

Legal Authority: Pub. L. 111-240, sec 1341 and 1343

Abstract: The U.S. Small Business Administration is proposing regulations that will address the intentional misrepresentations of small business status as a “presumption of loss against the Government.” In addition, the proposed rule will address the statutory requirement that no business may continue to certify itself as small on the Online Representation and Certifications Application (ORCA) without first providing an annual certification.

Timetable:

Action | Date | FR Cite
NPRM | 10/07/11 | 76 FR 62313
NPRM Comment Period End | 11/07/11 |
NPRM Comment Period Extended | 11/08/11 | 76 FR 69154
NPRM Extended Comment Period End | 12/08/11 |
Final Action | 06/00/12 |

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG23

461. Small Business Jobs Act: Small Business Mentor-Protégé Programs

Regulatory Plan: This entry is Seq. No. 151 in part II of this issue of the Federal Register.

RIN: 3245-AG24

462. Small Business Size Standards for Utilities Industries

Legal Authority: 15 U.S.C. 632(a)

Abstract: SBA is conducting a comprehensive review of all small business size standards to determine whether the existing size standards should be retained or revised. As part of this effort, SBA has evaluated each industry NAICS Sector 22, Utilities Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 05/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG25

463. Small Business Size Standards; Information

Legal Authority: 15 U.S.C. 632(a)

Abstract: SBA is conducting a comprehensive review of all small business size standards to determine whether the existing size standards should be retained or revised. As part of this effort, SBA has evaluated each industry NAICS Sector 51, Information Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 10/12/11 | 76 FR 63216
NPRM Comment Period End | 12/12/11 |
Final Action | 06/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG26

464. Small Business Size Standards; Administrative and Support, Waste Management and Remediation Services Industries

Legal Authority: 15 U.S.C. 632(a)

Abstract: SBA is conducting a comprehensive review of all small business size standards to determine whether the existing size standards should be retained or revised. As part of this effort, SBA has evaluated each industry NAICS Sector 56, Administrative and Support, Waste Management and Remediation Services Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 10/12/11 | 76 FR 63510
NPRM Comment Period End | 12/12/11 |
Final Action | 06/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG27

465. Small Business Size Standards: Real Estate, Rental and Leasing Industries

Legal Authority: 15 U.S.C. 632(a)

Abstract: SBA is conducting a comprehensive review of all small business size standards to determine whether the existing size standards should be retained or revised. As part of this effort, SBA has evaluated each industry NAICS Sector 53, Real Estate, Rental and Leasing Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 11/15/11 | 76 FR 70680
NPRM Comment Period End | 01/17/12 |
Final Action | 06/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG28

466. Small Business Size Standards: Educational Services Industries

Legal Authority: 15 U.S.C. 632(a)

Abstract: SBA is conducting a comprehensive review of all small business size standards to determine whether the existing size standards should be retained or revised. As part of this effort, SBA has evaluated each industry NAICS Sector 61, Educational Services Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 11/15/11 | 76 FR 70667
NPRM Comment Period End | 01/17/12 |
Final Action | 06/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG29

467. Small Business Size Standards: Health Care and Social Assistance Services Industries

Legal Authority: 15 U.S.C. 632(a)

Abstract: SBA is conducting a comprehensive review of all small business size standards to determine whether the existing size standards should be retained or revised. As part of this effort, SBA has evaluated each industry NAICS Sector 62, Health Care and Social Assistance Services Industries, and revised size standards for certain industries in the sector. This is one of a series of proposed rules that will examine industries grouped by an NAICS Sector. SBA has applied its “Size Standards Methodology,” which is available on its Web site at http://www.sba.gov/size, to this purposed rule.

Timetable:

Action | Date | FR Cite
NPRM | 04/00/12 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG30

468. Small Business Investment Companies—Early Stage SBICS

Legal Authority: 15 U.S.C. 636(a)(32)

Abstract: To address a critical market need for early stage equity financing, SBA proposes to license a limited number of Small Business Investment Companies (SBICs) each year that are focused on providing equity capital to seed and early stage small businesses. These SBICs would be designated as “Innovation Funds.” SBA leverage is available to SBICs through a debenture instrument, the structure of which was not designed to address the needs or circumstances of early stage investors, and thus presents certain repayment risks for such investors. However, with certain regulatory changes, the risk associated with providing debenture leverage to Innovation Funds may be significantly reduced. This rule would establish a number of regulatory provisions applicable to Innovation Funds for the purpose of managing overall program risk, including lower limits on maximum leverage eligibility and special distribution rules.

Timetable:

Action | Date | FR Cite
NPRM | 12/09/11 | 76 FR 76907
NPRM Comment Period End | 02/07/12
Final Action | 04/00/12

Regulatory Flexibility Analysis Required: Yes.

Agency Contact: Carol Fendler, Systems Accountant, Office of Investment, Small Business Administration, 409 Third Street SW., 6th Floor, Washington, DC 20416, Phone: 202 205-7559, Email: carol.fendler@sba.gov

RIN: 3245-AG32

469. • Small Business Size Standards: Arts, Entertainment, and Recreation

Legal Authority: 15 U.S.C. 632(a)

Abstract: SBA is conducting a comprehensive review of all small business size standards to determine whether the existing size standards should be retained or revised. As a part of this effort, SBA has evaluated each industry NAICS Sector 71, Arts, Entertainment, and Recreation, and revised size standards for center industries in the sector. This is one of a series of proposed rules that will examine industries grouped by NAICS Sector. SBA has applied its “Size Standards Methodology,” which is available on its Web site at http://www.sba.gov/size, to this proposed rule.

Timetable:

Action | Date | FR Cite
NPRM | 05/00/12

Regulatory Flexibility Analysis Required: Yes.

Agency Contact: Khem Raj Sharma, Chief, Office of Size Standards, Small Business Administration, 409 Third Street SW., Washington, DC 20416, Phone: 202 205-6390, Fax: 202 205-6390,

RIN: 3245-AG36

470. • Small Business Size Standards: Construction

Legal Authority: 15 U.S.C. 632(a)

Abstract: SBA is conducting a comprehensive review of all small business size standards to determine whether the existing size standards should be retained or revised. As a part of this effort, SBA has evaluated each industry NAICS Sector 23, Construction, and revised size standards for center industries in the sector. This is one of a series of proposed rules that will examine industries grouped by NAICS Sector. SBA has applied its “Size Standards Methodology,” which is available on its Web site at http://www.sba.gov/size, to this proposed rule.

Timetable:

Action | Date | FR Cite
NPRM | 05/00/12

Regulatory Flexibility Analysis Required: Yes.

Agency Contact: Khem Raj Sharma, Chief, Office of Size Standards, Small Business Administration, 409 Third Street SW., Washington, DC 20416, Phone: 202 205-6390, Fax: 202 205-6390.

RIN: 3245-AG37

SMALL BUSINESS ADMINISTRATION (SBA)

Final Rule Stage

471. Lender Oversight Program

Legal Authority: 15 U.S.C. 634(5)(b)(6),(b)(7),(b)(14),(h) and note; 687(f),697(e)(c)(8), and 650

Abstract: This rule implements the Small Business Administration's (SBA) statutory authority under the Small Business Reauthorization and Manufacturing Assistance Act of 2004 (Reauthorization Act) to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk management; (5) transfers existing SBA enforcement authority over CDCs from the Office of Financial Assistance to the appropriate official in the Office of Capital Access; and (6) defines SBA's oversight and enforcement authorities relative to all SBA lenders participating in the 7(a) and CDC programs and intermediaries in the Microloan program.

Timetable:

Action | Date | FR Cite
NPRM | 10/31/07 | 72 FR 61752
NPRM Comment Period Extended | 12/20/07 | 72 FR 72264
NPRM Comment Period End | 02/29/08
Interim Final Rule | 12/11/08 | 73 FR 75498
Interim Final Rule Comment Period End | 03/11/09
Interim Final Rule Effective | 01/12/09
Final Action | 09/00/12

Regulatory Flexibility Analysis Required: Yes.

Agency Contact: Eugene D Stewman, Acting Director, Office of Credit Risk Management, Small Business Administration, 409 3rd Street SW., Washington, DC 20416, Phone: 202 205-3049, Email: eugene.stewman@sba.gov.

RIN: 3245-AE14

472. Small Business Size Standards: Professional, Scientific, and Technical Services

Legal Authority: 15 U.S.C. 632(a)

Abstract: The U.S. Small Business Administration (SBA) proposes to modify small business size standards for industries in the North American Industry Classification System (NAICS) Sector 54, Professional, Scientific and Technical Services. As part of its ongoing initiative to review all size standards, SBA will evaluate each industry in Sector 54 to determine whether the existing size standards should be retained or revised. This is one of a series of proposed rules that will examine industries grouped by an NAICS Sector. SBA has applied its “Size Standards Methodology,” which is available on its Web site at http://www.sba.gov/size, to this proposed rule.

Timetable:

Action | Date | FR Cite
NPRM | 03/16/11 | 76 FR 14323
NPRM Comment Period End | 05/16/11
Final Action | 12/00/11

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG07

473. Small Business Size Standards: Transportation and Warehousing Industries

Legal Authority: 15 U.S.C. 632(a)

Abstract: The U.S. Small Business Administration (SBA) proposes to modify small business size standards for industries in the North American Industry Classification System (NAICS) Sector 48-49, Transportation and Warehousing Industries. As part of its ongoing initiative to review all size standards, SBA will evaluate each industry in Sector 48-49 to determine whether the existing size standards should be retained or revised. This is one of a series of proposed rules that will examine industries grouped by an NAICS Sector. SBA has applied its “Size Standards Methodology,” which is available on its Web site at http://www.sba.gov/size, to this proposed rule.

Timetable:

Action | Date | FR Cite
NPRM | 05/13/11 | 76 FR 27935
NPRM Comment Period End | 07/12/11
Final Action | 05/00/12

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG08

SMALL BUSINESS ADMINISTRATION (SBA)

Completed Actions

474. Implementation of Military Reservist and Veteran Small Business Reauthorization and Opportunity Act of 2008

Legal Authority: 15 U.S.C. 632(q); 15 U.S.C. 636(j)

Abstract: SBA plans to issue regulations to implement section 205 of the Military Reservist and Veteran Small Business Reauthorization and Opportunity Act. This Act provides that any time limitation on any qualification, certification, or period of participation imposed under the Small Business Act on any program that is available to small business concerns shall be extended for a small business concern that is owned and controlled by a veteran who was called or ordered to active duty or a service-disabled veteran who became such a veteran due to an injury or illness incurred or aggravated in the active military duty. These regulations will provide guidance on tolling of time limitations for veteran-owned small businesses.

Completed:

Reason | Date | FR Cite
Withdrawn | 10/24/11

Regulatory Flexibility Analysis Required: Yes.

Agency Contact: LeAnn Delaney, Phone: 202 205-6731, Email: leann.delaney@sba.gov.

RIN: 3245-AF87

475. Interest Rate—Resetting Fixed Interest Rate

Legal Authority: 15 U.S.C. 634

Abstract: SBA currently offers either a fixed or variable interest rate for 7(a) loans. In addition to these rates, the Agency is working to develop a shorter term fixed interest rate with the ability to be re-set at periodic intervals. This type of rate is currently available in the commercial market place and will help provide additional options for small business borrowers. By authorizing this option, SBA is recognizing a need to allow lenders to utilize market opportunities.

Completed:

Reason | Date | FR Cite
Withdrawn | 09/09/11

Regulatory Flexibility Analysis Required: Yes.

Agency Contact: Grady Hedgespeth, Phone: 202 205-7562, Fax: 202 481-0248, Email: grady.hedgespeth@sba.gov.

RIN: 3245-AG03

476. Small Business Size Standards for Loan, Investment, and Surety Programs

Legal Authority: 15 U.S.C. 632, 634(b)(6), 636(b), 637, 644, 662(5)

Abstract: SBA currently sets different size standards for participation in its financial assistance programs. 7(a) borrowers use the standards set out for procurement programs or a temporary alternate standard; 504 borrowers may use the 7(a) standards or an alternate standard; SBIC investment may be made to small businesses that qualify through another standard; and Surety Bond program participants must meet still different requirements. As part of an overall Agency program, SBA will review financial program eligibility regulations in order to update size eligibility requirements among these programs.

Completed:

Reason | Date | FR Cite
Withdrawn | 09/09/11

Regulatory Flexibility Analysis Required: Yes.

Agency Contact: Grady Hedgespeth, Phone: 202 205-7562, Fax: 202 481-0248, Email: grady.hedgespeth@sba.gov.

RIN: 3245-AG05

477. Statement of Personal History (Form 912) Modification

Legal Authority: 15 U.S.C. 634

Abstract: Form 912, Statement of Personal History, is required of certain responsible parties that have an interest in an SBA loan. Contained on this form among other information are various questions concerning past arrest records and or convictions. SBA will modify and clarify regulations concerning who needs to complete this form in an effort to simplify and accelerate the loan approval process.

Completed:

Reason | Date | FR Cite
Withdrawn | 09/09/11

Regulatory Flexibility Analysis Required: Yes.

Agency Contact: Grady Hedgespeth, Phone: 202 205-7562, Fax: 202 481-0248, Email: grady.hedgespeth@sba.gov.

RIN: 3245-AG11

478. Small Business Jobs Act: Bundling and Contract Consolidation

Legal Authority: Pub. L. 111-240, sec 1312, 1313

Abstract: The U.S. Small Business Administration is proposing regulations that will set forth a government-wide policy on bundling, which will address teams and joint ventures of small businesses and the requirement that each federal agency must publish on its Web site the rationale for any bundled contract. In addition, the proposed regulations will address contract consolidation and the limitations on the use of such consolidation in Federal procurement to include ensuring that the head of a Federal agency may not carry out a consolidated contract over $2 million unless the Senior Procurement Executive or Chief Acquisition Officer ensures that market research has been conducted and determines that the consolidation is necessary and justified. Further, the proposed regulations will address two new pilot programs: the three year pilot program called the “Electronic Procurement Center Representative (ePCR) Program” and the Small Business Teaming Pilot Program for teaming and joint ventures involving small businesses.

Completed:

Reason | Date | FR Cite
Withdrawn | 09/09/11

Regulatory Flexibility Analysis Required: Yes.

Agency Contact: Dean R. Koppel, Phone: 202 205-7322, Fax: 202 481-1540, Email: dean.koppel@sba.gov.

RIN: 3245-AG21

479. Small Business Size Standards: Application of Nonmanufacturer Rule to Processors and Other Producers

Legal Authority: 15 U.S.C. 632(a)

Abstract: SBA will clarify that contracting officers may not categorize a Federal government procurement using a North American Industry Classification System (NAICS) code that designates a public entity (NAICS Sector 92) when they will award or anticipate awarding the contract to a private entity. Entities in Sector 92 cannot qualify as small business concerns because they are not organized for profit. SBA intends to further clarify how the non-manufacturer rule applies to supply contracts.

Completed:

Reason | Date | FR Cite
Withdrawn | 09/09/11

Regulatory Flexibility Analysis Required: Yes.

Agency Contact: Khem Raj Sharma, Phone: 202 205-7189, Fax: 202 205-6390, Email: khem.sharma@sba.gov.

RIN: 3245-AG31

[FR Doc. 2012-1660 Filed 2-10-12; 8:45 am]

BILLING CODE 8025-01-P